DEPARTMENT OF HEALTH AND HUMAN SERVICES

Administration for Children and Families

President's Committee for People With Intellectual Disabilities; Notice of Committee Meeting via Conference Call

AGENCY: President's Committee for People with Intellectual Disabilities (PCPID), HHS.

ACTION: Notice of committee meeting via conference call.

DATES: Tuesday, July 19, 2011, from 1 p.m. to 2:30 p.m. EST. This meeting, to be held via audio conference call, is open to the public.

Details for accessing the full Committee Conference Call are cited below: Toll Free Dial-In Number: 800-779-1436. Pass Code: PCPID.

Individuals who will need accommodations for a disability in order to participate in the PCPID Meeting via audio conferencing (assistive listening devices, materials in alternative format such as large print or Braille) should notify Genevieve Swift, PCPID Executive Administrative Assistant, at Edith.Swift@acf.hhs.gov, or by telephone at 202-619-0634, no later than Tuesday, July 12, 2011. PCPID will attempt to meet requests for accommodations made after that date, but cannot guarantee ability to grant requests received after this deadline.

Agenda: Committee Members will discuss the potential topics, themes, and trends for the PCPID 2011 Annual Report to the President.

Additional Information: For further information, please contact Laverdia Taylor Roach, President's Committee for People with Intellectual Disabilities, The Aerospace Center, Second Floor West, 370 L'Enfant Promenade, SW., Washington, DC 20447. Telephone: 202-619-0634. Fax: 202-205-9519.

E-mail: LRoach@acf.hhs.gov.

SUPPLEMENTARY INFORMATION: PCPID acts in an advisory capacity to the President and the Secretary of Health and Human Services, through the Administration on Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: June 27, 2011.
Laverdia Taylor Roach,
PCPID.

[FR Doc. 2011-16604 Filed 6-30-11; 8:45 am]

BILLING CODE 4184-01-P